DEPARTMENT OF HOUSING AND URBAN DEVELOPMENT

[Docket No. FR-5076-D-04]

Order of Succession for the Office of Housing

AGENCY: Office of the Assistant Secretary for Housing, HUD.

ACTION: Notice of order of succession.

SUMMARY: In this notice, the Assistant Secretary for Housing designates the Order of Succession for the Office of Housing. This Order of Succession supersedes the Order of Succession for the Assistant Secretary for Housing published on February 5, 2003 (68 FR 5909).

Effective Date: June 20, 2006.

FOR FURTHER INFORMATION CONTACT: Eliot C. Horowitz, Senior Advisor to the Assistant Secretary for Housing-Federal Housing Commissioner, Office of Housing, Department of Housing and Urban Development, 451 Seventh Street, SW., Room 9110, Washington, DC 20410-0500. Telephone (202) 708-1490 (this is not a toll-free number). A telecommunications device for hearing- and speech-impaired persons (TTY) is available at 1-(800) 877-9339 (Federal Information Relay Service) (this is a toll-free number).

SUPPLEMENTARY INFORMATION: The Assistant Secretary for Housing is issuing this Order of Succession of officials authorized to perform the functions and duties of the Office of the Assistant Secretary for Housing when, by reason of absence, disability, or vacancy in office, the Assistant Secretary is not available to exercise the powers or perform the duties of the office. This Order of Succession is subject to the provisions of the Federal Vacancies Reform Act of 1998, 5 U.S.C. 3345-3349d. This publication supersedes the Order of Succession notice published on February 5, 2003 (68 FR 5909).

Accordingly, the Assistant Secretary for Housing designates the following Order of Succession:

Section A. Order of Succession

Subject to the provisions of the Federal Vacancies Reform Act of 1998, during any period when, by reason of absence, disability, or vacancy in office, the Assistant Secretary for Housing is not available to exercise the powers or perform the duties of the Office of Assistant Secretary for Housing, the following officials within the Office of Housing are hereby designated to exercise the powers and perform the duties of the Assistant Secretary for Housing:

(1) General Deputy Assistant Secretary for Housing;

(2) Deputy Assistant Secretary for Multifamily Housing;

(3) Deputy Assistant Secretary for Regulatory Affairs and Manufactured Housing;

(4) Deputy Assistant Secretary for Finance and Budget;

(5) Deputy Assistant Secretary for Single Family Housing;

(6) Deputy Assistant Secretary for Operations;

(7) Deputy Assistant Secretary for Affordable Housing Preservation.

These officials shall perform the functions and duties of the office in the order specified herein, and no official shall serve unless all the other officials, whose position titles precede his/hers in this order, are unable to act by reason of absence, disability, or vacancy in office.

Section B. Authority Superseded

This Order of Succession supersedes the Order of Succession for the Assistant Secretary for Housing published on February 5, 2003 (68 FR 5909).

Authority: Section 7(d), Department of Housing and Urban Development Act, 42 U.S.C. 3535(d).

Dated: June 20, 2006.
Brian D. Montgomery,
Assistant Secretary for Housing-Federal Housing Commissioner.

[FR Doc. E6-17059 Filed 10-17-06; 8:45 am]

BILLING CODE 4210-67-P